DEPARTMENT OF THE INTERIOR

Bureau of Reclamation

Coachella Canal Lining Project, Coachella and Imperial Counties, California

AGENCY: Bureau of Reclamation, Interior.

ACTION: Notice of Intent to update and revise the 1993 Draft Environmental Impact Statement (DEIS)/Draft Environmental Impact Report (DEIR) and to prepare the Final Environmental Impact Statement (FEIS)/Final Environmental Impact Report (FEIR) for the lining of the Coachella Canal, Riverside and Imperial Counties, California.

SUMMARY: Pursuant to the National Environmental Policy Act (NEPA) of 1969, as amended, and the California Environmental Quality Act (CEQA), the Bureau of Reclamation and the Coachella Valley Water District in conjunction with the State of California and the Metropolitan Water District of Southern California will update and revise the 1993 DEIS/DEIR and prepare a FEIS/FEIR to evaluate the environmental aspects associated with the proposed project to line 33.4 miles of the Coachella Canal (canal) between siphons 7 and 14 and siphons 15 and 32. Reduction of the seepage loss from the canal would conserve approximately 26,000 acre feet of water/year, which would be made available to the San Luis Rey Indian Tribe and Metropolitan Water District of Southern California and would help maintain the amount of Colorado River water available to California in accordance with the furtherance of implementing and achieving the goals of the “California Colorado River Water Use Plan.” The allocation of the water conserved from the canal lining will be consistent with federal law, and shall be determined by an agreement among the Metropolitan Water District of Southern California, the Imperial Irrigation District, the Palo Verde Irrigation District, the Coachella Valley Water District, and the San Luis Rey settlement parties, reached after consultation with the United States Secretary of the Interior and the Director of the California Department of Water Resources.

DATES: It is anticipated that the Revised DEIS/DEIR will be completed during August-September, 2000. A Notice of Availability for this document will be published, and copies of the Revised DEIS/DEIR will be circulated for a 60-day review and comment period by the public and other agencies.

FOR FURTHER INFORMATION CONTACT: Mr. Don Young, Assistant Area Manager, Yuma Area Office, Bureau of Reclamation, 7301 Calle Agua Salida, P.O. Box D, Yuma, Arizona 85366.

SUPPLEMENTARY INFORMATION: On November 17, 1988, Public Law 100-675 authorized the Secretary of the Interior to line the Coachella Canal or to recover seepage from the canal using construction funds from California water agencies entitled to the use of Colorado River water. A DEIS/DEIR was prepared for this project after public scoping meetings were held in 1988, 1989 and 1992 to identify issues, develop alternatives and provide information to the public on the project plan. In addition, Reclamation chaired various interagency work groups to evaluate project effects, develop alternatives and identify mitigation measures. Based upon this public/agency input, four alternatives were developed for this project: (1) Conventional lining, (2) underwater lining, (3) construction of a parallel canal, and (4) the no action alternative. The DEIS/DEIR for the project was completed and circulated to other government agencies, interested parties, and the public for review and comment from January 11 to March 15, 1994. However, following the public involvement process, the DEIS/DEIR was not revised to produce a FEIS/FEIR because funding was not available for the project.

California has now provided appropriated funds to finance the lining of the remaining unlined portions of the Coachella Branch of the All American Canal. The environmental analysis for this project will be updated to evaluate the status of resources since the original DEIS/DEIR was prepared. Since the alternatives have not changed for this project, further scoping is not required. Substantive comments received during the first public review of the document will be evaluated and incorporated into the revised DEIS/DEIR. The revised DEIS/DEIR will be distributed to the public and interested agencies/cooperators for a 60-day review and comment period. A Notice of Availability will be published when the revised DEIS/DEIR is available for public review and comment, and a public hearing has been scheduled.

The Coachella Canal delivers an average of 300,000 acre-feet of Colorado River water each year to the Coachella Valley Water District (CVWD), situated on the north end of the Salton Sea. The canal begins at a turnout on the All American Canal near the international boundary with Mexico and runs through the desert, east of the Salton Sea, before it enters the irrigated area of the CVWD. The canal was excavated through desert soils in the 1940's and was placed in operation as a partially lined and unlined canal in 1948.

The first 49-mile section of the canal, which runs through the sandy soil of the East Mesa, had especially high leakage; consequently it was lined in 1980 to conserve water pursuant to Title I of the Colorado River Basin Salinity Control Act (Public Law 93-320). The canal was “lined” by constructing a new canal parallel to the existing canal and connecting the new canal to existing concrete structures. The last 37 miles of the canal were lined when the canal was originally constructed.

The intervening section of canal was constructed in a mixture of gravel and clay soils. The rate of seepage from this section was not as high as in the first 49 miles, so lining was deferred. This section contains 33.4 miles of unlined canal (between siphons 7 and 14 and siphons 15 and 32) that are proposed for lining by this project. Between siphons 14 and 15, the canal was lined experimentally in 1991. The length of unlined canal does not include the lengths of the pipe siphons (wash crossings and rail road crossings), which are not proposed for replacement.

Anyone interested in more information concerning the Coachella Canal Lining Project should contact Mr. Young as provided above.

Dated: July 18, 2000.
Robert W. Johnson,
Regional Director.

[FR Doc. 00-18707 Filed 7-24-00; 8:45 am]

BILLING CODE 4310-MN-P